DEPARTMENT OF COMMERCE

International Trade Administration

[A-201-830]

Carbon and Certain Alloy Steel Wire Rod From Mexico: Amended Final Results of Antidumping Duty Administrative Review; 2013-2014

AGENCY: Enforcement and Compliance, International Trade Administration, U.S. Department of Commerce.

SUMMARY: The Department of Commerce (“Department”) is amending the Final Results ¹ of the administrative review of the antidumping duty order on carbon and certain alloy steel wire rod from Mexico to correct ministerial errors. The period of review (“POR”) is October 1, 2013, through September 30, 2014.

¹ See Carbon and Certain Alloy Steel Wire Rod from Mexico: Final Results of Antidumping Duty Administrative Review; 2013-2014 81 FR 31,592 (May 19, 2016) (“Final Results”).

DATES: Effective Date: June 27, 2016.

FOR FURTHER INFORMATION CONTACT: James Terpstra, AD/CVD Operations, Office III, Enforcement and Compliance, International Trade Administration, U.S. Department of Commerce, 14th Street and Constitution Avenue NW., Washington DC 20230; telephone 202-482-3965.

SUPPLEMENTARY INFORMATION:

Background

On May 16, 2016, the Department disclosed to interested parties its calculations for the Final Results.² On May 23, 2015, we received ministerial error allegations from Nucor Corporation ³ and Deacero S.A.P.I de C.V. and Deacero USA (“Deacero”) regarding the Department's final margin calculations.⁴

² See Memorandum, “Calculation Memorandum for Daecero S.A. de C.V. and Deacero USA, INC. (collectively, Deacero)” dated May 6, 2015.

³ Nucor Corporation (“Nucor”) is a domestic interested party.

⁴ See Letter from Nucor, “Eighth (12/13) Administrative Review of Carbon and Certain Alloy Steel Wire Rod from Mexico—Petitioner's Comments on a Ministerial Error in Final Results” dated May 18, 2015; and Letter from Deacero “Carbon and Certain Alloy Steel Wire Rod from Mexico: Ministerial Error Comments” dated May 18, 2015.

Period of Review

The POR covered by this review is October 1, 2013, through September 30, 2014.

Scope of the Order

The merchandise subject to this order is carbon and certain alloy steel wire rod. The product is currently classified under the Harmonized Tariff Schedule of the United States (HTSUS) item numbers 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059. Although the HTS numbers are provided for convenience and customs purposes, the written product description remains dispositive.⁵

⁵ For a complete description of the scope of the order, see “Carbon and Certain Alloy Steel Wire Rod from Mexico: Issues and Decision Memorandum for the Final Results of the Antidumping Administrative Review; 2012-2013” dated May 6, 2015 (“Issues and Decision Memorandum”).

Ministerial Errors

Section 751(h) of the Tariff Act of 1930, as amended (“the Act”), defines a “ministerial error” as including “errors in addition, subtraction, or other arithmetic function, clerical errors resulting from inaccurate copying, duplication, or the like, and any other unintentional error which the administering authority considers ministerial.” We analyzed Nucor's and Deacero's ministerial error comments and determined, in accordance with section 751(h) of the Act and 19 CFR 351.224(e), that there were ministerial errors in our calculation of Deacero's margin for the Final Results. For a complete discussion of these allegations, see the Department's Ministerial Errors Memorandum.⁶

⁶ See “2012-2013 Administrative Review of the Antidumping Order on Carbon and Certain Alloy Steel Wire Rod from Mexico: Ministerial Error Allegations for Final Results” dated concurrently with this notice (“Ministerial Errors Memorandum”).

In accordance with section 751(h) of the Act and 19 CFR 351.224(e), we are amending the Final Results.⁷ The revised weighted-average dumping margin is detailed below.

⁷ Id.

Amended Final Results

As a result of correcting for these ministerial errors, we determine the following margin exists for the period October 1, 2012, through September 30, 2013.

Manufacturer/exporter | Weighted- average dumping margin (percent)
Deacero S.A.P.I. de C.V. and Deacero USA, Inc. (collectively, Deacero) | 1.13 ad valorem.

Assessment Rate

Pursuant to section 751(a)(2)(C) of the Act, and 19 CFR 351.212(b), the Department will determine, and U.S. Customs and Border Protection (“CBP”) shall assess, antidumping duties on all appropriate entries of subject merchandise in accordance with the amended final results of this review. The Department intends to issue assessment instructions to CBP 41 days after the date of publication of these amended final results of review.

For assessment purposes, the Department applied the assessment rate calculation method adopted in Antidumping Proceedings: Calculation of the Weighted-Average Dumping Margin and Assessment Rate in Certain Antidumping Proceedings: Final Modification, 77 FR 8101 (February 14, 2012).

We calculated such rates based on the ratio of the total amount of dumping calculated for the examined sales to the total entered value of the sales for which entered value was reported. If an importer-specific assessment rate is zero or de minimis (i.e., less than 0.50 percent) or the exporter has a weighted-average dumping margin that is zero or de minimis, the Department will instruct CBP to assess that importer's entries of subject merchandise without regard to antidumping duties, in accordance with 19 CFR 351.106(c)(2).

For entries of subject merchandise during the POR produced by a respondent for which it did not know that its merchandise was destined for the United States, we will instruct CBP to liquidate unreviewed entries at the all-others rate if there is no rate for the intermediate company(ies) involved in the transaction. For a full discussion of this assessment practice, see Antidumping and Countervailing Duty Proceedings: Assessment of Antidumping Duties, 68 FR 23954 (May 6, 2003).

Cash Deposit Requirements

The following cash deposit requirements will be effective upon publication of the notice of amended final results of administrative review for all shipments of subject merchandise entered, or withdrawn from warehouse, for consumption on or after the publication of the amended final results of this administrative review, as provided by section 751(a)(2) of the Act: (1) The cash deposit rate for Deacero will be the rate established in the amended final results of this administrative review; (2) for merchandise exported by manufacturers or exporters not covered in this administrative review but covered in a prior segment of the proceeding, the cash deposit rate will continue to be the company-specific rate published for the most recent period; (3) if the exporter is not a firm covered in this review, a prior review, or the original investigation, but the manufacturer is, the cash deposit rate will be the rate established for the most recent period for the manufacturer of the merchandise; and (4) the cash deposit rate for all other manufacturers or exporters will continue to be 20.11 percent, the all-others rate established in the investigation.⁸ These cash deposit requirements, when imposed, shall remain in effect until further notice.

⁸ See Notice of Antidumping Duty Orders: Carbon and Certain Alloy Steel Wire Rod from Brazil, Indonesia, Mexico, Moldova, Trinidad and Tobago, and Ukraine, 67 FR 65945 (October 29, 2002).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent increase in antidumping duties by the amount of antidumping duties reimbursed.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of publication of this notice in accordance with 19 CFR 351.224(b)

We are issuing and publishing this notice in accordance with sections 751(a)(1) and 777(i)(1) of the Act and 19 CFR 351.224(e).

Dated: June 21, 2016.
Ronald K. Lorentzen,
Acting Assistant Secretary for Enforcement and Compliance.

[FR Doc. 2016-15130 Filed 6-24-16; 8:45 am]

BILLING CODE 3510-DS-P